DEPARTMENT OF TRANSPORTATION

Federal Highway Administration

Notice of Final Federal Agency Actions on Transportation Project in Washington State

AGENCY: Federal Highway Administration (FHWA), Department of Transportation (DOT),

ACTION: Notice of limitation on claims for judicial review of actions by FHWA.

SUMMARY: This notice announces actions taken by the FHWA that are final. The action relates to the SR 3 Freight Corridor—New Alignment project, located in western Washington within the City of Bremerton, Kitsap County, and Mason County. The Project will construct the SR 3 Freight Corridor—New Alignment to the east of the existing SR3 with a design and posted speed of 50 miles per hour. The proposed alignment will begin at MP 22.81 on existing SR 3 and connect back to the existing SR 3 alignment at MP 29.49. The project includes stormwater treatment facilities, 12-foot lanes with 8-foot shoulders, and roundabouts at the north and south connections to existing SR 3. The FHWA's Finding of No Significant Impact (FONSI) provides details on the Selected Alternative for the proposed improvements.

DATES: A claim seeking judicial review of the Federal agency actions on the listed highway project will be barred unless the claim is filed on or before May 1, 2025. If the Federal law that authorizes judicial review of a claim provides a time period of less than 150 days for filing such claim, then that shorter time period still applies.

FOR FURTHER INFORMATION CONTACT: Liana Liu, Area Engineer, Federal Highway Administration, 711 S Capitol Way, Suite 501, Olympia, WA, 98501-1284, (360) 753-9553, liana.liu@dot.gov or Washington.FHWA@dot.gov, or Victoria Book, Environmental & Hydraulics Manager, WSDOT Olympic Region, P.O. Box 47440, Olympia, WA 98504-7440, (360) 570-6707, victoria.book@wsdot.wa.gov.

SUPPLEMENTARY INFORMATION: Notice is hereby given that FHWA has taken final agency actions within the meaning of 23 U.S.C. 139(l)(1) by issuing a NEPA Finding of No Significant Impact (FONSI) for the SR 3 Freight Corridor-New Alignment Project in Mason and Kitsap Counties, Washington. The action(s) by FHWA and the laws under which such actions were taken, are described in the FONSI and the associated agency records. That information is available by contacting FHWA at the addresses provided above.

The project proposed to provide a reliable, high-speed, regional route between Kitsap and Mason Counties. This new route will move freight and regional traffic between Shelton and Bremerton, thus bypassing the urban center of Belfair. This project will reduce congestion and improve safety through Belfair and provide an alternate route during highway closures resulting from vehicular crashes and other incidents. Construction of this project will provide safe and reliable regional access to jobs, goods, and services, and improve efficiencies for all public service providers, on SR 3 through Belfair. A FONSI for the project was signed on November 15, 2024.

Information about the NEPA FONSI and associated records are available from FHWA at the addresses provided above and can be found at: https://wsdot.wa.gov/construction-planning/search-projects/sr-3-freight-corridor-new-alignment. This notice applies to all Federal agency decisions related to the FONSI as of the issuance date of this notice and all laws under which such actions were taken, including but not limited to:

1. General: National Environmental Policy Act (NEPA) [42 U.S.C. 4321-4347]; Federal-Aid Highway Act [23 U.S.C. 109].

2. Air: Clean Air Act, as amended [42 U.S.C. 7401-7671(q)].

3. Land: Section 6(f) of the Land and Water Conservation Fund Act of 1965 [16 U.S.C. 4601]; section 4(f) of the Department of Transportation Act of 1966 [49 U.S.C. 303].

4. Wildlife: Endangered Species Act [16 U.S.C. 1531-1544 and 1536]. Fish and Wildlife Coordination Act [16 U.S.C. 661-667(d)]. Migratory Bird Treaty Act [16 U.S.C. 703-712]. Bald and Golden Eagle Protection Act [16 U.S.C. 668-668c]. Magnuson-Stevens Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)];

6. Social and Economic: Civil Rights Act of 1964 [42 U.S.C. 2000d et seq.]; Farmland Protection Policy Act [7 U.S.C. 4201-4209].

7. Wetlands and Water Resources: Clean Water Act (section 319, section 401, section 402, section 404) [33 U.S.C. 1251-1377]. Safe Drinking Water Act [42 U.S.C. 300(f) et seq.].

8. Executive Orders: Executive Order 11990 Protection of Wetlands; Executive Order 11988 Floodplain Management; Executive Order 12898 Federal Actions to Address Environmental Justice in Minority Populations and Low-Income Populations; Executive Order 11593 Protection and Enhancement of Cultural Resources; Executive Order 13007 Indian Sacred Sites; Executive Order 13287 Preserve America; Executive Order 13175 Consultation and Coordination with Indian Tribal Governments; Executive Order 11514 Protection and Enhancement of Environmental Quality; Executive Order 13112 Invasive Species; Executive Order 13166 Improving Access to Services for Persons with Limited English Proficiency; Executive Order 13045 Protection of Children From Environmental Health Risks and Safety Risks; Executive Order 14096 Revitalizing Our Nation's Commitment to Environmental Justice for All.

Authority: 23 U.S.C. 139(l)(1).

Ralph J. Rizzo,
FHWA Division Administrator, Olympia, WA.

[FR Doc. 2024-28219 Filed 11-29-24; 8:45 am]

BILLING CODE 4910-RY-P